DEPARTMENT OF EDUCATION

Office of Vocational and Adult Education; Overview Information; Smaller Learning Communities (SLC) Program; Notice Inviting Applications for New Awards for Fiscal Year (FY) 2003—Second Competition

Catalog of Federal Domestic Assistance (CFDA) Number: 84.215L.

Dates:

Applications Available: July 8, 2004.

Deadline for Transmittal of Applications: August 9, 2004.

Deadline for Intergovernmental Review: September 7, 2004.

Eligible Applicants: Local educational agencies (LEAs), including schools funded by the Bureau of Indian Affairs (BIA schools), applying on behalf of large public high schools are eligible. For purposes of this program, a large high school is defined as a school that includes grades 11 and 12 and has an enrollment of 1,000 or more students in grades 9 and above. Additional information regarding applicant eligibility requirements is provided elsewhere in this notice in Section III. Eligibility Information, 1. Eligible Applicants.

Estimated Available Funds: $73,000,000.

Estimated Range of Awards: See chart under Section II. Award Information.

Estimated Number of Awards: 10 Planning Grants and 35 Implementation Grants.

Note: The Department is not bound by any estimates in this notice.

Project Period: Up to 12 months for Planning Grants and up to 36 months for Implementation Grants.

Full Text of Announcement

I. Funding Opportunity Description

Description of Program: This competition is the second competition run by the Department of Education for FY 2003 Smaller Learning Communities Program funds. The Department made awards from the first competition in early July 2004. At that time, applicants that were not awarded funding were also notified. We encourage applicants that applied in the first competition and did not receive funding to revise their applications and to reapply in this competition. All other eligible applicants are also encouraged to apply. LEAs that were successful in the first 2003 competition or in previous competitions may apply, but must abide by the requirements of section III of this notice in determining what high schools they may serve under this competition.

Purpose of Program: The purpose of the Smaller Learning Communities Program is to promote academic achievement through the planning, implementation or expansion of small, safe, and successful learning environments in large public high schools to help ensure that all students graduate with the knowledge and skills necessary to make successful transitions to college and careers.

Priorities: These priorities are from the notice of final requirements, priorities and selection criteria for this program, published in the Federal Register on March 15, 2004 (69 FR 12254).

Absolute Priorities: For FY 2003 these priorities are absolute priorities. Under 34 CFR 75.105(c)(3) we consider only applications that meet these priorities.

These priorities are:

Absolute Priority 1: Helping All Students To Succeed in Rigorous Academic Courses (Planning Grants)

This priority will support projects that will develop a plan to create or expand a smaller learning community program that will implement a coherent set of strategies and interventions that are designed to ensure that all students who enter high school with reading/language arts and mathematics skills that are significantly below grade level “catch up” quickly so that, by no later than the end of the 10th grade, they acquire the reading/language arts and mathematics skills they need to participate successfully in rigorous academic courses that will equip them with the knowledge and skills necessary to transition successfully to postsecondary education, an apprenticeship, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before of after school, on weekends, and at other times when school is not in session; and

(4) Provide sustained professional development and ongoing support for teachers and other personnel who are responsible for delivering instruction.

Absolute Priority 2: Helping All Students To Succeed in Rigorous Academic Courses (Implementation Grants)

This priority will support projects that will implement a coherent set of strategies and interventions that are designed to ensure that all students who enter high school with reading/language arts or mathematics skills that are significantly below grade level “catch up” quickly so that, by no later than the end of the 10th grade, they acquire the reading/language arts and mathematics skills they need to participate successfully in rigorous academic courses that will equip them with the knowledge and skills necessary to transition successfully to postsecondary education, an apprenticeship, or advanced training.

These accelerated learning strategies and interventions must:

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Program Authority: 20 U.S.C. 7249.

Applicable Regulations: (a) The Education Department General Administrative Regulations (EDGAR) in 34 CFR parts 75, 77, 79, 80, 81, 82, 84, 85, 86, 97, 98, and 99; and (b) the requirements, priorities and selection criteria contained in the notice of final requirements, priorities, and selection criteria published in the Federal Register on March 15, 2004 (69 FR 12254).

Note: The regulations in part 79 apply to all applicants except federally recognized Indian tribes.

II. Award Information

Type of Award: Discretionary Planning Grants and Implementation Grants.

Estimated Available Funds: $73,000,000.

Estimated Range of Awards: The Secretary will award both planning and implementation grants under this competition.

A. Planning Grants. The amount of an award for a planning grant is based on the number of schools the applicant proposes to serve. For a one-year planning grant, LEAs may receive, on behalf of a single school, $25,000 to $50,000 per project. LEAs applying on behalf of a group of eligible schools may receive up to $250,000 per planning grant depending on the number of schools included in the application. LEAs must stay within the maximum school allocations when determining their group award request. Therefore, in order to ensure sufficient planning funds at the local level, LEAs may not request funds for more than 10 schools under a single application.

The chart below provides the ranges of awards for planning grants:

Number of schools | Award ranges
One School | $25,000-$50,000
Two Schools | $50,000-$100,000
Three Schools | $75,000-$150,000
Four Schools | $100,000-$200,000
Five Schools | $125,000-$250,000
Six Schools | $150,000-$250,000
Seven Schools | $175,000-$250,000
Eight Schools | $200,000-$250,000
Nine Schools | $225,000-$250,000
Ten Schools | $250,000

B. Implementation Grants. The amount of an award for an implementation grant is based on the enrollment of the schools the applicant is proposing to serve. For a three-year implementation grant, LEAs may receive, on behalf of a single school, $250,000 to $550,000, depending upon the size of the school. LEAs applying on behalf of a group of eligible schools may request up to $5,500,000 per implementation grant. As with planning grants, LEAs must stay within the maximum school allocations when determining their group award request, or they will be declared ineligible and their applications will not be read. In order to ensure sufficient funds are available to support implementation activities, LEAs may not request funds for more than 10 schools under a single application for an implementation grant.

The chart below provides the ranges of awards for implementation grants:

Student enrollment | Award ranges per school
1,000-1,500 | $250,000-$300,000
1,501-2,000 | $250,000-$400,000
2,001-2,500 | $250,000-$450,000
2,501-3,000 | $250,000-$500,000
More than 3,000 | $250,000-$550,000

Understanding the unique complexities of implementing a program that affects a school's organization, physical design, curriculum, instruction, and preparation of teachers, the Secretary anticipates awarding the entire amount for an implementation grant at the time of the initial award. The award ranges provided are for the three-year grant period, not for each year of the grant.

Note: The Department will fund only those applications that correctly request funds within the maximum award ranges specified in this notice for both planning and implementation grants. Applicants requesting funding in amounts higher than the award ranges dictated by the number of schools or the enrollment of the schools to be served will be declared ineligible and their applications will not be read. However, an applicant may request an amount lower than the suggested minimum for an individual school or for the overall grant based on the pertinent number of schools.

Estimated Number of Awards: 10 Planning Grants and 35 Implementation Grants.

Note: The Department is not bound by any estimates in this notice.

Project Period: Up to 12 months for Planning Grants and up to 36 months for Implementation Grants.

III. Eligibility Information

1. Eligible Applicants: LEAs, including BIA schools, applying on behalf of large public high schools are eligible. For purposes of this program, a large high school is defined as a school that includes grades 11 and 12 and has an enrollment of 1,000 or more students in grades 9 and above.

We do not permit an LEA to apply on behalf of a high school for which it does not have governing authority, such as a high school in a neighboring school district. An LEA, however, may form a consortium with another LEA and submit a joint application for funds. They must follow the procedures for group applications described in 34 CFR 75.127-75.129 in EDGAR.

In this competition, an LEA may submit only one planning grant application and one implementation grant application and must specify in each application the high schools it intends to serve. An LEA may apply for only one planning grant and one implementation grant whether the LEA applies independently or as part of a consortium application. Additionally, an LEA may not apply for both a planning and implementation grant on behalf of the same high school. A single high school may only be included in either the LEA's planning grant application or its implementation grant application, but not both.

Applicants pursuing planning grant funds must not yet have developed a viable plan for creating smaller learning communities in the school(s) that will be served by the grant. To apply for implementation grant funds, applicants must be prepared to implement a new smaller learning communities program within each targeted high school, or to expand an existing smaller learning communities program. The first year of implementation grant funds is not to be used for planning purposes.

Schools that received funding through planning grants in previous competitions are not eligible to receive support through additional planning grants under this competition or future competitions. Schools that received funding through implementation awards in previous competitions are not eligible to receive additional support under this competition or future competitions.

2. Cost Sharing or Matching: This competition does not involve cost sharing or matching.

IV. Application and Submission Information

1. Address to Request Application Package: Deborah Williams, U.S. Department of Education, OVAE, 400 Maryland Avenue, SW., PCP room 11033, Washington, DC 20202-7241. Telephone: (202) 245-7770. Fax: (202) 245-7170.

If you use a telecommunications device for the deaf (TDD), you may call the Federal Information Relay Service (FIRS) at 1-800-877-8339.

You may also obtain an application package via Internet from the following address: www.ed.gov/programs/slcp/applicant.html.

Individuals with disabilities may obtain a copy of the application package in an alternative format (e.g., Braille, large print, audiotape, or computer diskette) by contacting the program contact person listed in this section.

2. Content and Form of Application Submission: To be considered for funding, LEAs must identify in their applications the name(s) of the eligible schools(s) and the number of students enrolled in each school. Enrollment figures must be based upon data from the current school year or data from the most recently completed school year. We will not accept applications from LEAs applying on behalf of schools that are being constructed and do not have an active student enrollment at the time of application. Applicants must clearly identify the proposed grant-funded smaller learning communities in their application. Additional requirements concerning the content of an application are in the notice of final requirements, priorities and selection criteria for this program, published in the Federal Register March 15, 2004 (69 FR 12554). These requirements, together with the forms you must submit, also are in the application package for this competition.

3. Submission Dates and Times: Applications Available: July 8, 2004.

Deadline for Transmittal of Applications: August 9, 2004. The dates and times for the transmittal of applications by mail or by hand (including a courier service or commercial carrier) are in the application package for this competition.

We do not consider an application that does not comply with the deadline requirements.

Deadline for Intergovernmental Review: September 7, 2004.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Instructions and requirements for the transmittal of applications by mail or by hand (including a courier service or commercial carrier) are in the application package for this competition.

V. Application Review Information

Selection Criteria: The selection criteria for this competition are in the notice of final requirements, priorities, and selection criteria published in the Federal Register on March 15, 2004 (69 FR 12254) and in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

Note: The requirements listed in this notice are material requirements. A failure to comply with any applicable program requirement (for example, failure to show improvement on the required performance indicators by the end of the first year of implementation) may subject a grantee to administrative action, including but not limited to designation as a “high-risk” grantee, the imposition of special conditions or termination of the grant.

3. Reporting: At the end of your project period, you must submit a final performance report, including financial information, as directed by the Secretary. If you receive a multi-year award, you must submit an annual performance report that provides the most current performance and financial expenditure information as specified by the Secretary in 34 CFR 75.118.

4. Performance Measures: The Secretary requires applicants for implementation grants to identify in their application specific performance indicators and annual performance objectives for each of these indicators. Specifically, applicants are required to use the following performance indicators to measure the progress of each school:

1. The percentage of students who scored at the proficient and advanced levels on the reading/language arts and mathematics assessments used by the State to measure adequate yearly progress under part A of title I of ESEA, disaggregated by subject matter and the following subgroups:

a. All students;

b. Major racial and ethnic groups;

c. Students with disabilities;

d. Students with limited English proficiency; and

e. Economically disadvantaged students.

2. The school's graduation rate, as defined in the State's approved accountability plan for part A of title I of ESEA;

3. The percentage of graduates who enroll in postsecondary education, apprenticeships, or advanced training for the semester following graduation; and

4. The percentage of graduates who are employed by the end of the first quarter after they graduate (e.g., for students who graduate in May or June, this would be September 30).

In addition to the four required indicators listed above, applicants may choose to set performance levels for other appropriate indicators; such as:

1. Rates of average daily attendance and year-to-year retention;

2. Achievement and gains in English proficiency of limited English proficient students;

3. The incidence of school violence, drug and alcohol use, and disciplinary actions;

4. The percentage of students completing advanced placement courses, and the rate of passing advanced placement tests (such as Advanced Placement, International Baccalaureate, and courses for college credit); and

5. The level of teacher, student, and parent satisfaction with the Smaller Learning Communities structures and strategies being implemented.

Applicants for implementation grants are required to include in their applications their most recent School Report Card. Upon being awarded, recipients of implementation grants will be required to provide baseline data responding to each of these indicators for the three years preceding the baseline year. Specific instructions will be sent from us to grant recipients. Recipients of implementation grants will be required to report annually on the extent to which each school achieved its performance objectives for each indicator during the preceding school year. Additionally, implementation grantees will have to submit a final Annual Performance Report at the end of the fourth year of implementation. We require grantees to include in these reports comparable data, if available, for the preceding three school years so that trends in performance will be more apparent.

VII. Agency Contact

For Further Information Contact: Deborah Williams, U.S. Department of Education, 400 Maryland Avenue, SW., PCP room 11033, Washington, DC 20202-7241. Telephone: (202) 245-7770 or by e-mail: deborah.williams@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 1, 2004.
Susan Sclafani,
Assistant Secretary for Vocational and Adult Education.

[FR Doc. 04-15542 Filed 7-7-04; 8:45 am]

BILLING CODE 4000-01-P